ENVIRONMENTAL PROTECTION AGENCY

40 CFR Part 70

[Regional Docket No. II-2012-01; FRL-9933-81-Region 2]

Petition for Objection to State Operating Permit; NY; Seneca Energy II, LLC

AGENCY: Environmental Protection Agency (EPA).

ACTION: Notice of final action.

SUMMARY: Pursuant to Clean Air Act (CAA) Section 505(b)(2) and 40 CFR 70.8(d), the Environmental Protection Agency (EPA) Administrator signed an Order, dated June 29, 2015, granting in part and denying in part a petition filed by Gary A. Abraham on behalf of Finger Lakes Zero Waste Coalition, Inc. (dated December 22, 2012) asking the EPA to object to the Title V operating permit (Permit No. 8-3244-00040/00002) issued by the New York State Department of Environmental Conservation (DEC) to Seneca Energy II, LLC (Seneca) relating to the Ontario County Landfill Gas-to-Energy Facility (Facility) in western New York. Sections 307(b) and 505(b)(2) of the CAA provide that the petitioner may ask for judicial review by the United States Court of Appeals for the appropriate circuit of those portions of the Order that deny objections raised in the petition.

DATES: Any such petition for review of this Order must be received by November 13, 2015 pursuant to section 307(b) of the CAA.

ADDRESSES: You may review copies of the final Order, the petitions, and other supporting information during normal business hours at EPA Region 2, 290 Broadway, New York, New York. If you wish to examine these documents, you should make an appointment at least 24 hours before the visiting day. Additionally, the final Order is available electronically at: http://www.epa.gov/region7/air/title5/petitiondb/petitions/seneca_response2012.pdf.

FOR FURTHER INFORMATION CONTACT: Steven Riva, Chief, Permitting Section, Air Programs Branch, Clean Air and Sustainability Division, EPA, Region 2, 290 Broadway, 25th Floor, New York, New York 10007, telephone (212) 637- 4074, email address: Riva.Steven@epa.gov, or the above EPA Region 2 address.

SUPPLEMENTARY INFORMATION: The CAA affords the EPA a 45-day period to review, and object to, as appropriate, a title V operating permit proposed by a state permitting authority. Section 505(b)(2) of the CAA authorizes any person to petition the EPA Administrator, within 60 days after the expiration of this review period, to object to a Title V operating permit if the EPA has not done so. Petitions must be based only on objections to the permit that were raised with reasonable specificity during the public comment period provided by the state, unless the petitioner demonstrates that it was impracticable to raise these issues during the comment period or that the grounds for the objection or other issues arose after this period. The claims are described in detail in Section IV of the Order. In summary, the issues raised are that: (1) The Title V permit does not consider the Ontario County Landfill (Landfill) and the Facility a single source even though they together meet the 3-factor source determination test; and (2) the Facility's Title V permit is a “sham permit.” The EPA's rationale for partially granting and partially denying the claims raised in the petition are described in the Order.

Dated: August 26, 2015.
Catherine McCabe,
Deputy Regional Administrator.

[FR Doc. 2015-23076 Filed 9-11-15; 8:45 am]

BILLING CODE 6560-50-P